DEPARTMENT OF THE TREASURY

Submission for OMB Review; Comment Request

January 29, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before March 6, 2009 to be assured of consideration.

Internal Revenue Service (IRS)

OMB Number: 1545-1685.

Type of Review: Extension.

Title: REG-103735-00-REG-155303-03 (Final) Tax Shelter Disclosure Statements.

Description: These regulations provide guidance on the filing requirement under section 6011 for certain corporate taxpayers engaged in transactions producing tax savings in excess of certain dollar thresholds.

Respondents: Businesses or other for-profits.

Estimated Total Burden Hours: 1 hour.

OMB Number: 1545-1992.

Type of Review: Extension.

Title: REG-146459-05-TD 9324 (Final) Designated Roth Contributions Under Section 402A.

Description: The proposed regulations set forth the rules for taxation of distributions from Designated Roth Accounts which are a part of a 401(k) plan or 403(b) plan.

Respondents: Businesses or other for-profits.

Estimated Total Burden Hours: 828,000 hours.

Clearance Officer: Glenn P. Kirkland (202) 622-3428, Internal Revenue Service, Room 6516, 1111 Constitution Avenue, NW., Washington, DC 20224.

OMB Reviewer: Nicholas A. Fraser (202) 395-5887, Office of Management and Budget, Room 10235, New Executive Office Building, Washington, DC 20503.

Celina Elphage,
Treasury PRA Clearance Officer.

[FR Doc. E9-2351 Filed 2-3-09; 8:45 am]

BILLING CODE 4830-01-P